DEPARTMENT OF ENERGY

Federal Energy Regulatory Commission

Combined Notice of Filings #1

Take notice that the Commission received the following electric corporate filings:

Docket Numbers: EC23-18-000.

Applicants: Seneca Energy II, LLC, Innovative Energy Systems, LLC, PEI Power LLC, PEI Power II, LLC, INGENCO Wholesale Power L.L.C., Collegiate Clean Energy, LLC, Condor RTM Inc., Sunshine Gas Producers, LLC.

Description: Joint Application for Authorization Under Section 203 of the Federal Power Act of Seneca Energy II, LLC, et al.

Filed Date: 10/31/22.

Accession Number: 20221031-5372.

Comment Date: 5 p.m. ET 11/21/22.

Docket Numbers: EC23-19-000.

Applicants: Northern Iowa Windpower LLC, Old Gold Energy Center, LLC.

Description: Joint Application for Authorization Under Section 203 of the Federal Power Act of Northern Iowa Windpower LLC, et al.

Filed Date: 10/31/22.

Accession Number: 20221031-5380.

Comment Date: 5 p.m. ET 11/21/22.

Docket Numbers: EC23-20-000.

Applicants: Buena Vista Energy Center, LLC.

Description: Application for Authorization Under Section 203 of the Federal Power Act of Buena Vista Energy Center, LLC.

Filed Date: 11/1/22.

Accession Number: 20221101-5082.

Comment Date: 5 p.m. ET 11/22/22.

Take notice that the Commission received the following exempt wholesale generator filings:

Docket Numbers: EG23-19-000.

Applicants: Arroyo Solar LLC.

Description: Arroyo Solar LLC submits Notice of Self-Certification of Exempt Wholesale Generator Status.

Filed Date: 11/1/22.

Accession Number: 20221101-5170.

Comment Date: 5 p.m. ET 11/22/22.

Docket Numbers: EG23-20-000.

Applicants: Arroyo Energy Storage LLC.

Description: Arroyo Energy Storage LLC submits Notice of Self-Certification of Exempt Wholesale Generator Status.

Filed Date: 11/1/22.

Accession Number: 20221101-5172.

Comment Date: 5 p.m. ET 11/22/22.

Take notice that the Commission received the following electric rate filings:

Docket Numbers: ER10-1276-015; ER10-1287-014; ER10-1292-013; ER10-1303-013; ER10-1319-015; ER10-1353-015; ER18-1150-008; ER18-1183-006; ER18-1184-006; ER22-2187-001; ER22-2188-002.

Applicants: Northwest Ohio IA, LLC, Northwest Ohio Solar, LLC, Delta Solar Power II, LLC, Delta Solar Power I, LLC, Northwest Ohio Wind, LLC, Dearborn Industrial Generation, L.L.C., CMS Generation Michigan Power, LLC, Genesee Power Station Limited Partnership, CMS Energy Resource Management Company, Grayling Generation Station Limited Partnership, Consumers Energy Company.

Description: Notice of Change in Status of Consumers Energy Company, et al.

Filed Date: 10/31/22.

Accession Number: 20221031-5236.

Comment Date: 5 p.m. ET 11/21/22.

Docket Numbers: ER10-1355-012.

Applicants: Southern California Edison Company.

Description: Notice of Change in Status of Southern California Edison Company.

Filed Date: 10/31/22.

Accession Number: 20221031-5384.

Comment Date: 5 p.m. ET 11/21/22.

Docket Numbers: ER10-1616-017; ER10-2359-012; ER10-2756-011; ER10-2783-019; ER10-2798-018; ER10-2799-018; ER10-2878-019; ER10-2879-018; ER10-2960-015; ER10-2969-019; ER14-891-001; ER18-1821-009; ER18-2418-007; ER19-2231-006; ER19-2232-006; ER21-2423-006; ER21-2424-006; ER22-46-005; ER22-1402-002; ER22-1404-002; ER22-1449-002; ER22-1450-002; ER22-1662-002; ER22-2713-001.

Applicants: Walleye Power, LLC, Sunrise Power Company, LLC, Parkway Generation Sewaren Urban Renewal Entity LLC, Parkway Generation Operating LLC, Parkway Generation Keys Energy Center LLC, Parkway Generation Essex, LLC, Oswego Harbor Power LLC, New Covert Generating Company, LLC, Montville Power LLC, Middletown Power LLC, Long Beach Generation LLC, Griffith Energy LLC, Great River Hydro, LLC, Generation Bridge M&M Holdings, LLC, Generation Bridge Connecticut Holdings, LLC, GB II New York LLC, GB II New Haven LLC, GB II Connecticut LLC, Devon Power LLC, Connecticut Jet Power LLC, Chief Keystone Power II, LLC, Chief Conemaugh Power II, LLC, Astoria Generating Company, L.P., Arthur Kill Power LLC.

Description: Notice of Change in Status of New Covert Generating Company, LLC, et al.

Filed Date: 10/31/22.

Accession Number: 20221031-5394.

Comment Date: 5 p.m. ET 11/21/22.

Docket Numbers: ER10-1946-016; ER14-1468-013.

Applicants: KMC Thermo, LLC, Broad River Energy LLC.

Description: Notice of Non-Material Change in Status of Broad River Energy LLC, et al.

Filed Date: 10/31/22.

Accession Number: 20221031-5373.

Comment Date: 5 p.m. ET 11/21/22.

Docket Numbers: ER10-2124-024; ER10-2125-025; ER10-2127-023; ER10-2128-024; ER10-2132-024; ER10-2764-024; ER15-1873-016; ER18-471-010; ER18-1197-007; ER20-2444-004; ER20-2445-004; ER22-1999-001; ER22-2091-001.

Applicants: Calhoun Solar Energy LLC, Number Three Wind LLC, Prineville Solar Energy LLC, Millican Solar Energy LLC, Camilla Solar Energy LLC, States Edge Wind I LLC, Buckeye Wind Energy LLC, Vantage Wind Energy LLC, Willow Creek Energy LLC, Wolverine Creek Energy LLC, Invenergy TN LLC, Judith Gap Energy LLC, Spring Canyon Energy LLC.

Description: Notice of Change in Status of Spring Canyon Energy LLC, et al.

Filed Date: 10/28/22.

Accession Number: 20221028-5391.

Comment Date: 5 p.m. ET 11/18/22.

Docket Numbers: ER10-2374-017.

Applicants: Puget Sound Energy, Inc.

Description: Notice of Non-Material Change in Status of Puget Sound Energy, Inc.

Filed Date: 10/27/22.

Accession Number: 20221027-5188.

Comment Date: 5 p.m. ET 11/17/22.

Docket Numbers: ER10-2984-061.

Applicants: Merrill Lynch Commodities, Inc.

Description: Notice of Non-Material Change in Status of Merrill Lynch Commodities, Inc.

Filed Date: 10/31/22.

Accession Number: 20221031-5377.

Comment Date: 5 p.m. ET 11/21/22.

Docket Numbers: ER10-3050-010; ER10-3053-010.

Applicants: Whitewater Hill Wind Partners, LLC, Cabazon Wind Partners, LLC.

Description: Notice of Non-Material Change in Status of Cabazon Wind Partners, LLC, et al.

Filed Date: 10/31/22.

Accession Number: 20221031-5379.

Comment Date: 5 p.m. ET 11/21/22.

Docket Numbers: ER16-581-010; ER16-582-010; ER16-2271-009; ER17-1370-009; ER20-1385-003; ER20-1853-002; ER21-2204-003.

Applicants: ENGIE Power & Gas LLC, Whitehorn Solar LLC, Bluestone Farm Solar, LLC, ENGIE Energy Marketing NA, Inc., ENGIE Resources LLC, ENGIE Retail, LLC, ENGIE Portfolio Management, LLC.

Description: Notice of Change in Status of ENGIE Portfolio Management, LLC, et al.

Filed Date: 10/28/22.

Accession Number: 20221028-5392.

Comment Date: 5 p.m. ET 11/18/22.

Docket Numbers: ER18-730-002.

Applicants: Linden VFT, LLC.

Description: Linden VFT submits a Post-Open Solicitation Compliance Filing and request for Expedited Action and Confidential Treatment.

Filed Date: 10/14/22.

Accession Number: 20221014-5252.

Comment Date: 5 p.m. ET 11/4/22.

Docket Numbers: ER19-357-001; ER22-1095-001.

Applicants: KCE NY 6, LLC, KCE NY 1, LLC.

Description: Notice of Change in Status of KCE NY 1, LLC, et al.

Filed Date: 10/31/22.

Accession Number: 20221031-5378.

Comment Date: 5 p.m. ET 11/21/22.

Docket Numbers: ER20-956-005; ER18-784-006; ER23-300-001.

Applicants: Jayhawk Wind, LLC, Upstream Wind Energy LLC, Thunderhead Wind Energy LLC.

Description: Notice of Non-Material Change in Status of Thunderhead Wind Energy LLC, et al.

Filed Date: 10/31/22.

Accession Number: 20221031-5383.

Comment Date: 5 p.m. ET 11/21/22.

Docket Numbers: ER20-1863-007.

Applicants: Ingenco Wholesale Power, L.L.C.

Description: Compliance filing: Informational Filing on Reactive Tariff ER20-1863 and Request for Waiver to be effective N/A.

Filed Date: 10/31/22.

Accession Number: 20221031-5260.

Comment Date: 5 p.m. ET 11/21/22.

Docket Numbers: ER21-2674-004.

Applicants: Borderlands Wind, LLC.

Description: Notice of Change in Status of Borderlands Wind, LLC, et al.

Filed Date: 10/31/22.

Accession Number: 20221031-5375.

Comment Date: 5 p.m. ET 11/21/22.

Docket Numbers: ER22-80-003.

Applicants: Coyote Ridge Wind, LLC.

Description: Compliance filing: Settlement Compliance Filing to be effective 1/1/2022.

Filed Date: 11/1/22.

Accession Number: 20221101-5131.

Comment Date: 5 p.m. ET 11/22/22.

Docket Numbers: ER22-1085-001.

Applicants: Panorama Wind, LLC.

Description: Notice of Change in Status of Panorama Wind, LLC.

Filed Date: 10/31/22.

Accession Number: 20221031-5382.

Comment Date: 5 p.m. ET 11/21/22.

Docket Numbers: ER22-1370-003.

Applicants: Sunlight Storage, LLC.

Description: Notice of Change in Status of Sunlight Storage, LLC, et al.

Filed Date: 10/31/22.

Accession Number: 20221031-5374.

Comment Date: 5 p.m. ET 11/21/22.

Docket Numbers: ER22-2314-001.

Applicants: Langdon Renewables, LLC.

Description: Supplement to September 2, 2022 filing of Langdon Renewables, LLC.

Filed Date: 10/28/22.

Accession Number: 20221028-5315.

Comment Date: 5 p.m. ET 11/18/22.

Docket Numbers: ER22-2808-001.

Applicants: AEP Texas Inc.

Description: Tariff Amendment: AEPTX-Southwest Texas EC-Golden Spread EC 6th A&R IA—Amend Pending to be effective 8/16/2022.

Filed Date: 10/31/22.

Accession Number: 20221031-5215.

Comment Date: 5 p.m. ET 11/21/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2022.
Debbie-Anne A. Reese,
Deputy Secretary.

[FR Doc. 2022-24240 Filed 11-4-22; 8:45 am]

BILLING CODE 6717-01-P